POSTAL SERVICE

United States Postal Service Board of Governors; Sunshine Act Meeting

Board Votes To Close December 24, 2001, Meeting

By paper and telephone vote on December 21 and 24, 2001, a majority of the members contacted and voting, the Board of Governors of the United States Postal Service voted to close to public observation its meeting held in Washington, DC via teleconference. The Board determined that prior public notice was possible.

Item Considered: Rate Case R2001-1.

General Counsel Certification: The General Counsel of the United States Postal Service has certified that the meeting was properly closed under the Government in the Sunshine Act.

Contact Person for More Information: Requests for information about the meeting should be addressed to the Secretary of the Board, David G. Hunter, at (202) 268-4800.

David G. Hunter,
Secretary.

[FR Doc. 02-512 Filed 1-4-02; 12:20 pm]

BILLING CODE 7710-12-M